DEPARTMENT OF HEALTH AND HUMAN SERVICES

Health Resources and Services Administration

Solicitation of Nominations for Membership To Serve on the National Advisory Council on the National Health Service Corps

AGENCY: Health Resources and Services Administration (HRSA), Department of Health and Human Services (HHS).

ACTION: Request for nominations.

SUMMARY: HRSA is seeking nominations of qualified candidates for consideration for appointment as members of the National Advisory Council on the National Health Service Corps (NACNHSC). NACNHSC advises the Secretary of HHS and, by designation, HRSA's Administrator on the priorities and policies impacting the National Health Service Corps (NHSC) and provides specific recommendations for policy revisions.

DATES: The agency will receive nominations on a continuous basis.

ADDRESSES: Nomination packages may be mailed to Advisory Council Operations, Bureau of Health Workforce, HRSA, 5600 Fishers Lane, Room 15W09D, Rockville, Maryland 20857 or submitted electronically by email to: BHWAdvisoryCouncilFRN@hrsa.gov.

FOR FURTHER INFORMATION CONTACT: Diane Fabiyi-King, Designated Federal Official, NACNHSC at (301) 443-3609 or email at dfabiyi-king@hrsa.gov. Interested parties may obtain a copy of the current committee membership, charter, and reports by accessing the website http://nhsc.hrsa.gov/corpsexperience/aboutus/nationaladvisorycouncil/index.html.

SUPPLEMENTARY INFORMATION: NACNHSC consists of 15 members selected by the HHS Secretary who are knowledgeable in the recruitment and retention of providers in communities with a shortage of primary care professionals. Meetings take place up to four times a year.

Nominations: HRSA is requesting nominations for voting members of NACNHSC representing the areas of primary care, dental health, and mental health. In particular, NACNHSC is seeking nominations with demonstrated expertise in the following areas: Working with underserved populations, health care policy, recruitment and retention, site administration, customer service, marketing, organizational partnerships, research, or clinical practice. HRSA is seeking nominees that either are currently or have previously been site administrators, physicians, dentists, mid-level professionals (i.e., nurses, physician assistants), mental or behavioral health professionals, or NHSC scholars or loan repayors who have the expertise described above.

The Secretary of HHS will consider nominations of all qualified individuals within the areas of subject matter expertise noted above. In making such appointments, the Secretary shall ensure a broad geographic representation of members and a balance between urban and rural educational settings.

Individuals, professional associations, and organizations may nominate one or more qualified persons for membership. NACNHSC members are appointed as Special Government Employees and receive a stipend and reimbursement for per diem and travel expenses incurred for attending meetings and/or conducting other business on behalf of NACNHSC, as authorized by Section 5 U.S.C. 5703 for persons employed intermittently in government service.

To evaluate possible conflicts of interest, individuals selected for consideration for appointment will be required to provide detailed information regarding their financial holdings, consultancies, and research grants or contracts. The selected candidates must fill out the U.S. Office of Government Ethics (OGE) Confidential Financial Disclosure Report, OGE Form 450. Disclosure of this information is necessary to determine if the selected candidate is involved in any activity that may pose a potential conflict with their official duties as a member of the committee.

A nomination package should include the following information for each nominee: (1) A letter of nomination from an employer, a colleague, or a professional organization stating the name, affiliation, and contact information for the nominee, the basis for the nomination (i.e., what specific attributes, perspectives, and/or skills does the individual possess that would benefit the workings of the NACNHSC, and the nominee's field(s) of expertise); (2) a letter of interest from the nominee stating the reasons they would like to serve on the NACNHSC; (3) a biographical sketch of the nominee, a copy of his/her curriculum vitae, and his/her contact information (address, daytime telephone number, and email address); and (4) the name, address, daytime telephone number, and email address at which the nominator can be contacted.

HRSA will collect and retain nomination packages to create a pool of possible future NACNHSC voting members. When a vacancy occurs, the agency will review nomination packages from the appropriate category and may contact nominees at that time. Nominations should be updated and resubmitted every 4 years to continue to be considered for committee vacancies.

HHS strives to ensure a balance of the membership of NACNHSC in terms of points of view presented and the committee's function and makes every effort to ensure the representation of women, all ethnic and racial groups, and people with disabilities on HHS Federal Advisory Committees. Therefore, we encourage nominations of qualified candidates from these groups and endeavor to make appointments to NACNHSC without discrimination on basis of age, race, ethnicity, gender, sexual orientation, disability, and cultural, religious, or socioeconomic status.

Authority: Section 337 of the Public Health Service Act (42 U.S.C. 254j), as amended. NACNHSC is governed by provisions of the Federal Advisory Committee Act (FACA), as amended (5 U.S.C. Appendix 2), which sets for the formation and use of advisory committees, and applies to the extent that the provisions of FACA do not conflict with the requirements of PHSA Section 337.

Dated: May 17, 2018.
Jay Womack,
Acting Deputy Director, Division of Executive Secretariat.

[FR Doc. 2018-11034 Filed 5-22-18; 8:45 am]

BILLING CODE 4165-15-P